DEPARTMENT OF HEALTH AND HUMAN SERVICES

Centers for Medicare & Medicaid Services

[Document Identifier CMS-10389]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection (Request for a new OMB control number). Title of Information Collection: The Home and Community-Based Service (HCBS) Experience Survey. Use: This study is a one-time pilot field test involving individuals who receive HCBS from Medicaid programs. The field test to be conducted under this request will be done for the following purposes: (a) To assess survey methodology—to determine how well a face-to-face survey and telephone survey performs with individuals who receive HCBS services. (b) Psychometric Analysis—to provide information for the revision and shortening of the survey based on the assessment of the reliability and construct validity of survey items and composites. (c) Case mix adjustment analysis—Assess the variables that may be considered as case mix adjusters.

These preliminary research activities are not required by regulation, and will not be used by CMS to regulate or sanction its customers. They will be entirely voluntary and the confidentiality of respondents and their responses will be preserved.

The information collected will be used to revise and test the survey instrument described in the Background section of the Supporting Statement. Within the PRA package, Attachment B includes two versions of the survey (one modified for accessibility) and Attachment C has the introductory information. The end result will be an improvement in information collection instruments and in the quality of data collected, a reduction or minimization of respondent burden, increased agency efficiency, and improved responsiveness to the public. Following the field test, CMS will seek approval from the CAHPS consortium for the HCBS Experience Survey to be a new addition to the CAHPS® family of surveys.

Form Number: CMS-10389 (OCN 0938-New). Frequency: Once. Affected Public: 1 Individuals and households. Number of Respondents: 18,000. Total Annual Responses: 18,000. Total Annual Hours: 9,000. (For policy questions regarding this collection contact Anita Yuskauskas at 410-786-0268. For all other issues call 410-786-1326.)

To obtain copies of the supporting statement and any related forms for the proposed paperwork collections referenced above, access CMS' Web Site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by July 17, 2012:

1. Electronically. You may submit your comments electronically to http://www.regulations.gov. Follow the instructions for “Comment or Submission” or “More Search Options” to find the information collection document(s) accepting comments.

2. By regular mail. You may mail written comments to the following address:

CMS, Office of Strategic Operations and Regulatory Affairs, Division of Regulations Development, Attention: Document Identifier/OMB Control Number__, Room C4-26-05, 7500 Security Boulevard, Baltimore, Maryland 21244-1850.

Dated: May 15, 2012.
Martique Jones,
Director, Regulations Development Group, Division B, Office of Strategic Operations and Regulatory Affairs.

[FR Doc. 2012-12080 Filed 5-17-12; 8:45 am]

BILLING CODE 4120-01-P